DEPARTMENT OF HEALTH AND HUMAN SERVICES

Office of the Secretary

Privacy Act of 1974; System of Records Notice

AGENCY: Assistant Secretary for Administration, Office of the Secretary (OS), Department of Health and Human Services (HHS).

ACTION: Notice of deletion of multiple systems of records.

SUMMARY: The Office of the Assistant Secretary for Administration (ASA) within the Department of Health and Human Services (HHS) is deleting eighteen (18) systems of records established pursuant to the Privacy Act of 1974, as amended (5 U.S.C. 552a), because HHS has determined that they duplicate other systems of records or are obsolete.

DATES: Effective Dates: The deletions are effective upon publication.

ADDRESSES: The public should address written comments to: Director for Workforce Management and Vitality, Office of Human Resources, 200 Independence Avenue SW., Suite 801, Washington, DC 20201. Comments will be available for public viewing at the same location. To review comments in person, please contact the Director for Workforce Management and Vitality.

FOR FURTHER INFORMATION CONTACT: Director for Workforce Management and Vitality, Office of Human Resources, 200 Independence Avenue SW., Suite 801, Washington, DC 20201.

SUPPLEMENTARY INFORMATION:

I. The Eighteen (18) Deleted Systems of Records

The agency is deleting the following eighteen systems of records for the reasons indicated:

A. Duplicative of OPM/GOV'T-1:

1. 09-90-0018 Personnel Records in Operating Offices

B. Duplicative of OPM/GOV'T-1 with respect to civilian personnel, and duplicative of 09-40-0001 with respect to Public Health Service (PHS) Commissioned Corps personnel:

2. 09-90-0012 Executive Development Records

3. 09-90-0016 HHS Motor Vehicle Operator Records

4. 09-90-0019 Special Employment Program Records

5. 09-90-0021 Training Management Information System

6. 09-90-0022 Volunteer EEO Support Personnel Records

7. 09-90-0028 Biographies and Photographs of HHS Officials

8. 09-90-0036 Employee Suggestion Program Records

9. 09-90-0200 Child Care Subsidy Program Records

C. Duplicative of the SORN(s) indicated:

10. 09-15-0004 Federal Employees Occupational Health Data System (duplicates OPM/GOVT-10, 09-40-0002, and 09-40-0005)

11. 09-40-0013 PSC Parking Program, PSC Transhare Program Records, PSC Security Services, and PSC Employee and Contractors Identification Badge Issuances (duplicates OPM/GOV'T-1, 09-40-0001, and 09-90-0777 as to parking; duplicates OPM/GOV'T-1 and 09-40-0001 as to Transhare; duplicates 09-90-0777 as to security and badging)

12. 09-90-0006 Applicants for Employment Records (duplicates OPM/GOVT-5)

13. 09-90-0011 Employee Appraisal Program Records (duplicates OPM/GOVT-2)

14. 09-90-0013 Federal Employees Occupational Health Program Records (duplicates OPM/GOVT-10, 09-40-0002, and 09-40-0005)

15. 09-90-0023 Departmental Parking Control Policy and Records System (duplicates OPM/GOV'T-1, 09-40-0001, and 09-90-0777)

D. Obsolete; the systems no longer exist, and all records have been destroyed:

16. 09-90-0075 MBTA Prepaid Pass Program Participants (an obsolete transit subsidy system)

17. 09-90-0095 Management Information System Efficiency Reporter (MISER) (there is no longer any record of this system apart from System of Records Notices published from January 19, 1982 (47 FR 2791) to November 9, 1994 (59 FR 55845)

18. 09-90-1101 Optional Form 55 Cards Issuance Log (an obsolete access control system)

II. The Privacy Act

The Privacy Act (5 U.S.C. 552a) governs the means by which the U.S. Government collects, maintains, and uses information about individuals in a system of records. A “system of records” is a group of any records under the control of a Federal agency from which information about an individual is retrieved by the individual's name or other personal identifier. The Privacy Act requires each agency to publish in the Federal Register a system of records notice (SORN) identifying and describing each system of records the agency maintains, including the purposes for which the agency uses information about individuals in the system, the routine uses for which the agency discloses such information outside the agency, and how individual record subjects can exercise their rights under the Privacy Act (e.g., to determine if the system contains information about them).

Dated: October 21, 2016.
Christine M. Major,
Acting Deputy Assistant Secretary for Human Resources, U.S. Department of Health and Human Services.

NOTICE OF DELETION:

The following systems of records are now deleted:

1. 09-15-0004 Federal Employees Occupational Health Data System

2. 09-40-0013 PSC Parking Program, PSC Transhare Program Records, PSC Security Services, and PSC Employee and Contractors Identification Badge Issuances

3. 09-90-0006 Applicants for Employment Records

4. 09-90-0011 Employee Appraisal Program Records

5. 09-90-0012 Executive Development Records

6. 09-90-0013 Federal Employees Occupational Health Program Records

7. 09-90-0016 HHS Motor Vehicle Operator Records

8. 09-90-0018 Personnel Records in Operating Offices

9. 09-90-0019 Special Employment Program Records

10. 09-90-0021 Training Management Information System

11. 09-90-0022 Volunteer EEO Support Personnel Records

12. 09-90-0023 Departmental Parking Control Policy and Records System

13. 09-90-0028 Biographies and Photographs of HHS Officials

14. 09-90-0036 Employee Suggestion Program Records

15. 09-90-0075 MBTA Prepaid Pass Program Participants

16. 09-90-0095 Management Information System Efficiency Reporter (MISER)

17. 09-90-0200 Child Care Subsidy Program Records

18. 09-90-1101 Optional Form 55 Cards Issuance Log

[FR Doc. 2016-26116 Filed 10-27-16; 8:45 am]

BILLING CODE 4151-17-P